DEPARTMENT OF ENERGY

Federal Energy Regulatory Commission

Combined Notice of Filings

Take notice that the Commission has received the following Natural Gas Pipeline Rate and Refund Report filings:

Filings Instituting Proceedings

Docket Numbers: RP10-996-000.

Applicants: Dominion Cove Point LNG, LP.

Description: Report Filing: DECP—2018 Report of Operational Sales and Purchases of Gas.

Filed Date: 7/31/18.

Accession Number: 20180731-5146.

Comments Due: 5 p.m. ET 8/13/18.

Docket Numbers: RP18-1045-000.

Applicants: Transcontinental Gas Pipe Line Company, LLC.

Description: § 4(d) Rate Filing: Pooling Charges—Zones 5 and 6 to be effective 10/1/2018.

Filed Date: 8/3/18.

Accession Number: 20180803-5034.

Comments Due: 5 p.m. ET 8/15/18.

Docket Numbers: RP18-1046-000.

Applicants: Texas Gas Transmission, LLC.

Description: § 4(d) Rate Filing: Cap Rel Neg Rate Agmt (EM Energy OH 35451 to BP 37304) to be effective 8/3/2018.

Filed Date: 8/3/18.

Accession Number: 20180803-5133.

Comments Due: 5 p.m. ET 8/15/18.

Docket Numbers: RP18-1047-000.

Applicants: Global LNG S.A.S.,Total Gas & Power North America, Inc.

Description: Joint Petition for Temporary Waivers of Capacity Release Regulations and Policies, et al. of Global LNG S.A.S., et al.

Filed Date: 8/3/18.

Accession Number: 20180803-5158.

Comments Due: 5 p.m. ET 8/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2018.
Nathaniel J. Davis, Sr.,
Deputy Secretary.

[FR Doc. 2018-17352 Filed 8-10-18; 8:45 am]

BILLING CODE 6717-01-P